DEPARTMENT OF DEFENSE

Department of the Army

Draft Legislative Environmental Impact Statement Regarding Requested Public Land Withdrawal in Vicinity of Highway 95 and Yuma Proving Ground, Arizona

AGENCY: Department of the Army, Department of Defense.

ACTION: Notice of availability.

SUMMARY: The U.S. Department of the Army (Army) announces the availability of a Draft Legislative Environmental Impact Statement (Draft LEIS) regarding a requested public land withdrawal in the vicinity of Highway 95 and Yuma Proving Ground, Arizona. In accordance with the National Environmental Policy Act (NEPA), the LEIS analyzes the potential environmental effects resulting from the withdrawal and reservation for military purposes of approximately 22,000 acres of public land managed by the U.S. Department of the Interior's Bureau of Land Management (BLM). If enacted into law by Congress, the withdrawal would add acreage to Yuma Proving Ground (YPG). The Army requires the additional land as a safety buffer for testing advanced air delivery technologies and aviation systems. An LEIS is being prepared for this proposed action because the withdrawal and reservation require congressional action.

DATES: Comments must be received by April 15, 2024.

ADDRESSES: The public can review a copy of the Draft LEIS at the Main Yuma Library (2951 S 21st Dr., Yuma, AZ 85364) or at the Quartzsite Public Library (465 N Plymouth Ave., Quartzsite, AZ 85346).

The Draft LEIS is also available as an electronic file on the YPG project website: https://ypg-environmental.com/highway-95-land-withdrawal-leis/.

Written comments may be sent by regular mail to the YPG Environmental Sciences Division, 301 C St., Bldg. 307, Yuma, AZ 85365. Comments may also be sent via email to: usarmy.ypg.imcom.mbx.nepa@army.mil.

FOR FURTHER INFORMATION CONTACT: Mr. Daniel Steward, YPG Environmental Sciences Division, via email at usarmy.ypg.imcom.mbx.nepa@army.mil or via phone at (928) 328-2125.

SUPPLEMENTARY INFORMATION: The Army prepared this Draft LEIS in accordance with: NEPA (title 42 of the United States Code, section 4321); Council on Environmental Quality NEPA regulations (title 40 of the Code of Federal Regulations [CFR] parts 1500-1508); and the Army's NEPA implementing regulation (32 CFR part 651).

YPG is located in the southwestern corner of Arizona, near the California-Arizona border. The Colorado River bounds it to the west and the Gila River bounds it to the south. The installation lies approximately 23 miles northeast of the city of Yuma, Arizona. YPG is situated in both La Paz and Yuma Counties, Arizona, and the requested 22,000-acre withdrawal involves land in each county. YPG occupies about 1,300 square miles and extends approximately 60 miles north to south and 50 miles east to west.

YPG's mission is to plan, conduct, assess, analyze, report, and support developmental, production, and operational tests on the following: medium- and long-range artillery; aircraft target acquisition equipment and armament; armored tracked and wheeled vehicles; a variety of munitions; and parachute systems for personnel and supplies. YPG also provides training support to the Army, other Department of Defense branches, other federal agencies, and international and commercial customers.

The Draft LEIS analyzes the potential impacts of a legislative withdrawal and reservation for military purposes of approximately 22,000 acres of public land managed by BLM. The requested action involves the withdrawal of the land from all forms of appropriation (such as mining claims) and an additional 800 acres of federal surface estate (meaning the subsurface is not included). The land lies between the current boundary of YPG and a section of Highway 95 between mile marker 76 and mile marker 91. The Army requires the additional land as a safety buffer to improve public safety and to meet testing and training requirements for advances in parachute technologies. If enacted into law, the withdrawal would add to—and be adjacent to—the 829,565 acres withdrawn on July 1, 1952, under Public Land Order No. 848, as amended, for use by the Army in connection with Yuma Test Station (currently known as YPG). The Army will request that the 22,000-acre withdrawal be for an indefinite period—i.e., until there is no longer a military need for the land.

The purpose of the requested land withdrawal is to provide additional area to support testing and training at YPG. The Army requires the additional land as a safety buffer for testing advanced air delivery technologies and aviation systems. The additional land will provide a larger surface safety zone and will allow the Army to execute more complex air delivery and tactical scenarios than are currently possible. A surface safety zone is an area in space and on the ground that provides an additional buffer in case of error or failure during testing or training. Surface safety zones protect people from being injured by material dropping from the sky during air delivery testing and training. Higher altitudes and greater offset distances are required to test parachute systems' full capabilities, and this testing requires a correspondingly greater surface safety zone.

Due to land and airspace limitations, systems are currently not tested to their full capability for altitude and precision. Without the requested withdrawal, mission-required drops could land outside the YPG boundary and could result in injury or death to members of the public. The requested land withdrawal would restrict the public from accessing hazardous areas, thus reducing the potential for such injuries and deaths.

The existing boundary between YPG and BLM land lacks a contiguous physical landmark demarcating the two areas, which has led to unintentional public intrusions onto YPG. The requested withdrawal area extends to Highway 95 and would establish the highway as a distinct physical landmark for the YPG boundary, thereby improving public safety.

In addition to the Army's proposed action, the Draft LEIS analyzes an alternative involving a withdrawal for a shorter period and a No-Action Alternative. Under a limited-duration withdrawal, Congress would withdraw and reserve for Army use the same area with the same boundary and land-management provisions as the proposed action, but the duration of the Highway 95 withdrawal would be limited to a shorter period (i.e., 25 years).

Under the No-Action Alternative, Congress would not enact legislation to withdraw and reserve the land. BLM would retain management responsibility for the 22,000 acres of public land. Under this alternative, YPG would not meet mission requirements, but limited military testing and training would continue within the present-day YPG boundary. While the No-Action Alternative would not satisfy the purpose of or need for the proposed action, this alternative was retained to provide a comparative baseline against which to analyze the effects of the action alternatives.

The Draft LEIS evaluates the potential direct, indirect, and cumulative environmental and socioeconomic effects of the proposed action. The resource areas and effects analyzed in the Draft LEIS include biological resources, cultural resources, existing land use, recreation, socioeconomics, and environmental justice. The analysis includes minimization measures, standard operating procedures, and best management practices routinely employed by YPG to reduce the potential adverse effects of the proposed action.

Under the proposed action (i.e., the withdrawal of BLM land for an indefinite duration), there would be less-than-significant effects on all evaluated resources. The withdrawal alternatives would result in minor adverse effects on land use and recreation, but none of the effects would be significant. The proposed action would transfer management of this land from one federal agency to another. The Army's environmental compliance requirements would be the same as those of BLM. If Congress approves the withdrawal, the Army would conduct consultation on future actions under the National Historic Preservation Act and the Endangered Species Act, as appropriate. The environmental effects of the shorter-duration withdrawal alternative would be comparable to those of the proposed action but would last for a specific period.

Federal, state, and local agencies, federally recognized Tribes, other Native American organizations, and the general public are invited to participate in the public comment process for the Draft LEIS. The public comment period begins with the publication of this notice of availability in the Federal Register and will last for 45 days. Comments must be received or postmarked within 45 days of publication in the Federal Register to be considered during the decision-making process. The Army will hold two virtual public meetings during the review period. For information about the virtual public meetings, please see the project website: https://ypg-environmental.com/highway-95-land-withdrawal-leis. The Army will consider all comments received on the Draft LEIS when preparing the Final LEIS.

Congress will receive the Final LEIS as part of the withdrawal case file. Congress will decide whether to authorize the requested land withdrawal and reservation.

James W. Satterwhite Jr.,
Army Federal Register Liaison Officer.

[FR Doc. 2024-04383 Filed 2-29-24; 8:45 am]

BILLING CODE 3711-02-P